Proclamation 9737 of April 30, 2018

National Physical Fitness and Sports Month, 2018

By the President of the United States of America

A Proclamation

During National Physical Fitness and Sports Month, we renew our commitment to living healthier and more active lifestyles, and acknowledge the positive difference that sports make in our society. Setting time aside each day to exercise improves both mental health and overall quality of life. In addition to the health benefits, participation in sports builds good character, teaches the value of teamwork, reinforces self-discipline, and promotes leadership.

Involvement in both team and individual sports offers countless benefits to the general well-being of children, allowing them to gain knowledge of the connection between effort and success, and enhancing their academic, economic, and social prospects. Studies have shown that children who are involved in sports have greater self-discipline, higher self-esteem, and are better at working with others. They are also more likely to attend college and less likely to commit a crime or suffer from mental or physical health problems. Similar research suggests that individuals who have participated in sports are more likely to excel in the workplace and earn higher wages than their peers who did not compete in athletics.

In recent years, unfortunately, America has seen a decline in youth sports participation, particularly among young girls and children from economically distressed areas. For this reason, in February, I signed an Executive Order regarding sports, fitness, and nutrition. The order establishes a Presidential council focused on the critical importance of sports in increasing the physical fitness and positive life outcomes of our Nation's youth. This council is charged with identifying ways to expand access to youth sports and ensuring American children from all zip codes can compete if they desire. The Executive Order emphasizes my Administration's commitment to encouraging youth sports participation throughout the United States, so that we can strengthen the next generation of American leaders and lift up our communities.

Routine physical activity also offers extraordinary health benefits for individuals of all ages. Engaging in regular physical activity can reduce risk of developing heart disease, type 2 diabetes, and even certain types of cancers. It also builds bone and muscle strength, reducing the risk of injuries. In children six years and older, regular engagement in 60 minutes or more of physical activity per day has been shown to lower the risk of obesity, while improving heart, muscular, and bone health. A routine exercise plan can even assist in reducing symptoms of depression and improving mental health. Therefore, I encourage all Americans to develop and maintain a physical fitness plan that helps them fulfill their fitness goals and achieve a healthier overall lifestyle.

At the root of a healthy America are healthy citizens. This month, we celebrate and promote the benefits of physical activity and recognize those selfless individuals who volunteer their time and resources to make it possible for our Nation's youth to participate in sports programs. I encourage all Americans to find a sport or to adopt an exercise routine that allows them to reap the numerous benefits of an active lifestyle. Together, we can invest in a healthier and stronger America.

NOW, THEREFORE, I, DONALD J. TRUMP, President of the United States of America, by virtue of the authority vested in me by the Constitution and the laws of the United States, do hereby proclaim May 2018 as National Physical Fitness and Sports Month. I call upon the people of the United States to make physical activity and sports participation a priority in their lives.

IN WITNESS WHEREOF, I have hereunto set my hand this thirtieth day of April, in the year of our Lord two thousand eighteen, and of the Independence of the United States of America the two hundred and forty-second.

[FR Doc. 2018-09737

Filed 5-3-18; 11:15 am]

Billing code 3295-F8-P